POSTAL SERVICE

Temporary Emergency Committee of the Board of Governors; Sunshine Act Meeting; Correction

AGENCY: Postal Service.

ACTION: Notice; correction.

SUMMARY: The Postal Service published a document in the Federal Register of August 2, 2017, providing notice of a closed meeting of the Temporary Emergency Committee of the Board of Governors. The document specified an incorrect day of the week for the date of the meeting.

FOR FURTHER INFORMATION CONTACT: Julie S. Moore, (202) 268-4800.

Corrections

In the Federal Register of August 2, 2017, in FR Doc. 2017-16301:

1. On page 36007, in the third column, correct the Dates and Times caption to read:

DATES AND TIMES: Monday, August 7, 2017, at 9:00 a.m.

2. On page 36008, in the first column, correct the first line to read:

Monday, August 7, 2017, at 9:00 a.m.

Dated: August 2, 2017.
Julie S. Moore,
Secretary.

[FR Doc. 2017-16622 Filed 8-2-17; 4:15 pm]

BILLING CODE 7710-12-P